DEPARTMENT OF COMMERCE

Foreign-Trade Zones Board

[B-24-2024]

Proposed Foreign-Trade Zone—Clallam County, Washington State Under Alternative Site Framework

An application has been submitted to the Foreign-Trade Zones (FTZ) Board by the Port of Port Angeles to establish a foreign-trade zone in Clallam County, Washington, under the alternative site framework (ASF) adopted by the FTZ Board (15 CFR 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the Board (15 CFR part 400). It was formally docketed on May 20, 2024. The applicant is authorized to make the proposal under Revised Code of Washington, title 53, chapter 53.08, section 53.08.030, Operation of foreign trade zones.

The proposed zone would be the first zone for the Port Angeles Customs and Border Protection (CBP) port of entry.

The applicant's proposed service area under the ASF would be Clallam County. If approved, the applicant would be able to serve sites throughout the service area based on companies' needs for FTZ designation. The application indicates that the proposed service area is within and adjacent to the Port Angeles Customs and Border Protection port of entry.

The proposed zone would include two “magnet” sites: Proposed Site 1 (790 acres)—William R. Fairchild Airport, 1402 Fairchild Airport Road, Port Angeles; and, Proposed Site 2 (249 acres)—Port Angeles Waterfront, Port Angeles. The ASF allows for the possible exemption of one magnet site from the “sunset” time limits that generally apply to sites under the ASF, and the applicant proposes that Site 1 be so exempted.

The application indicates a need for zone services in Clallam County, Washington. Several firms have indicated an interest in using zone procedures for warehousing/distribution activities for a variety of products. Specific production approvals are not being sought at this time. Such requests would be made to the FTZ Board on a case-by-case basis.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is July 23, 2024. Rebuttal comments in response to material submitted during the foregoing period may be submitted during the subsequent 15-day period to August 7, 2024.

A copy of the application will be available for public inspection in the “Online FTZ Information Section” section of the FTZ Board's website, which is accessible via www.trade.gov/ftz.

For further information, contact Qahira El-Amin at Qahira.El-Amin@trade.gov.

Dated: May 21, 2024.
Elizabeth Whiteman,
Executive Secretary.

[FR Doc. 2024-11488 Filed 5-23-24; 8:45 am]

BILLING CODE 3510-DS-P